OFFICE OF PERSONNEL MANAGEMENT

Excepted Service

AGENCY: U.S. Office of Personnel Management (OPM).

ACTION: Notice.

SUMMARY: This notice identifies Schedule A, B, and C appointing authorities applicable to a single agency that were established or revoked from April 1, 2012 to April 30, 2012.

FOR FURTHER INFORMATION CONTACT: Senior Executive Resources Services, Executive Resources and Employee Development, Employee Services, 202-606-2246.

SUPPLEMENTARY INFORMATION: In accordance with 5 CFR 213.103, Schedule A, B and C appointing authorities available for use by all agencies are codified in the Code of Federal Regulations (CFR). Schedule A, B and C appointing authorities applicable to a single agency are not codified in the CFR, but the Office of Personnel Management (OPM) publishes a notice of agency-specific authorities established or revoked each month in the Federal Register at www.gpo.gov/fdsys/. OPM also publishes annually a consolidated listing of all Schedule A, B and C appointing authorities current as of June 30 as a notice in the Federal Register.

Schedule A

The following corrections are submitted for the Excepted Service, Consolidated Listing of Schedules A, B, and C.

11. Department of Homeland Security (Sch. A, 213.3111)

(3) Papago Indian Agency—Not to exceed 25 positions of Customs Patrol Officers in the Papago Indian Agency in the state of Arizona when filled by the appointment of persons of one-fourth or more Indian blood. (Formerly 213.3112)

Is changed to read as follows:

11. Department of Homeland Security (Sch. A, 213.3111)

(e) Papago Indian Agency—Not to exceed 25 positions of Customs Patrol Officers in the Papago Indian Agency in the state of Arizona when filled by the appointment of persons of one-fourth or more Indian blood. (Formerly 213.3112)

40. Small Business Administration (Sch. A, 213.3140)

Is changed to read as follows:

32. Small Business Administration (Sch. A, 213.3132)

66. Court Services and Offender Supervision Agency of the District of Columbia

Is changed to read as follows:

66. Court Services and Offender Supervision Agency of the District of Columbia (Sch. A, 213.3166)

Schedule B

No changes to report for Schedule B authorities during April 2012.

Schedule C

The following Schedule C appointing authorities were approved during April 2012.

Agency name | Organization name | Position title | Authorization No. | Effective date
DEPARTMENT OF AGRICULTURE | Office of the Under Secretary for Rural Development | Special Assistant for Energy Programs | DA120061 | 4/19/2012
| Office of the Secretary | Executive Assistant | DA120065 | 4/19/2012
| Office of Communications | Deputy Director of Scheduling | DA120063 | 4/24/2012
| Office of the Under Secretary for Food, Nutrition, and Consumer Services | Advisor for Special Projects | DA120067 | 4/24/2012
DEPARTMENT OF COMMERCE | Office of Public Affairs | Deputy Director of Public Affairs | DC120101 | 4/13/2012
| Patent and Trademark Office | Deputy Chief Communications Officer | DC120106 | 4/17/2012
DEPARTMENT OF THE NAVY | Office Assistant Secretary of Navy (Energy, Installations, and Environment) | Special Assistant | DN120018 | 4/12/2012
DEPARTMENT OF EDUCATION | Office of Innovation and Improvement | Confidential Assistant | DB120062 | 4/4/2012
| Office for Civil Rights | Confidential Assistant | DB120047 | 4/13/2012
| Office of the Under Secretary | Confidential Assistant | DB120064 | 4/19/2012
| Office of Legislation and Congressional Affairs | Chief of Staff | DB120063 | 4/20/2012
DEPARTMENT OF ENERGY | Office of General Counsel | Staff Assistant | DE120061 | 4/3/2012
| Office of Public Affairs | Senior Digital Communications Strategist | DE120059 | 4/4/2012
| Office of Public Affairs | Press Assistant | DE120060 | 4/6/2012
| Office of Assistant Secretary for Policy and International Affairs | Special Assistant | DE120071 | 4/19/2012
| Office of the Secretary | Deputy Director for Outreach and Public Engagement | DE120078 | 4/26/2012
| Office of the Under Secretary | Special Assistant | DE120075 | 4/27/2012
| Office of Environmental Management | Communications Advisor | DE120077 | 4/27/2012
ENVIRONMENTAL PROTECTION AGENCY | Office of the Administrator | White House Liaison | EP120028 | 4/13/2012
| Office of the Associate Administrator for External Affairs and Environmental Education | Assistant Press Secretary | EP120029 | 4/13/2012
GENERAL SERVICES ADMINISTRATION | Mid-Atlantic Region | Regional Administrator | GS120017 | 4/27/2012
DEPARTMENT OF HEALTH AND HUMAN SERVICES | Administration on Aging | Special Assistant | DH120068 | 4/6/2012
| Centers for Medicare and Medicaid Services | Senior Advisor | DH120069 | 4/6/2012
| Office of the Assistant Secretary for Children and Families | Confidential Assistant-Departmental Liaison for Early Childhood Development | DH120098 | 4/13/2012
| Office of the Assistant Secretary for Children and Families | Confidential Assistant | DH120099 | 4/13/2012
| Office of the Secretary | Confidential Assistant | DH120100 | 4/13/2012
| Office of the Assistant Secretary for Children and Families | Confidential Assistant for Policy, Administration for Children and Families | DH120101 | 4/17/2012
| Office of the Assistant Secretary for Public Affairs | Press Secretary | DH120105 | 4/23/2012
DEPARTMENT OF HOMELAND SECURITY | Office of the Assistant Secretary for Public Affairs | Deputy Press Secretary | DM120114 | 4/20/2012
DEPARTMENT OF HOUSING AND URBAN DEVELOPMENT | Office of Public Affairs | Deputy Assistant Secretary for Public Engagement | DU120028 | 4/3/2012
| Office of Congressional and Intergovernmental Relations | Deputy Assistant Secretary for Intergovernmental Affairs | DU120029 | 4/3/2012
DEPARTMENT OF THE INTERIOR | Bureau of Safety and Environmental Enforcement | Special Assistant | DI120033 | 4/6/2012
| Office of the Deputy Secretary | Counselor | DI120035 | 4/19/2012
| Assistant Secretary—Indian Affairs | Senior Advisor- Indian Affairs | DI120044 | 4/26/2012
DEPARTMENT OF JUSTICE | Office of Justice Programs | Senior Advisor | DJ110052 | 4/24/2012
DEPARTMENT OF LABOR | Office of the Secretary | Scheduler | DL120048 | 4/20/2012
NATIONAL AERONAUTICS AND SPACE ADMINISTRATION | Office of Legislative and Intergovernmental Affairs | Legislative Affairs Specialist | NN120048 | 4/6/2012
NATIONAL ENDOWMENT FOR THE HUMANITIES | National Endowment for the Humanities | Special Assistant | NH120001 | 4/3/2012
OFFICE OF SCIENCE AND TECHNOLOGY POLICY | Office of Science and Technology Policy | Confidential Assistant | TS120003 | 4/27/2012
DEPARTMENT OF STATE | Office of the Special Envoy for Climate Change | Senior Advisor | DS120065 | 4/2/2012
| Office of Legislative Affairs | Legislative Management Officer | DS120063 | 4/4/2012
| Bureau of Conflict and Stabilization Operations | Director of Overseas Operations | DS120069 | 4/19/2012
| Bureau of Conflict and Stabilization Operations | Director of Policy and Programs | DS120068 | 4/20/2012
| Office of Legislative Affairs | Deputy Assistant Secretary | DS120071 | 4/20/2012
DEPARTMENT OF VETERANS AFFAIRS | Office of the Secretary and Deputy | Special Assistant | DV120032 | 4/10/2012

The following Schedule C appointing authorities were revoked during April 2012.

Agency name | Organization name | Position title | Authorization no. | Effective date
DEPARTMENT OF AGRICULTURE | Office of Communications | Deputy Director of Scheduling | DA110108 | 04/21/12
| Rural Business Service | Special Assistant to the Administrator | DA100090 | 04/21/12
DEPARTMENT OF COMMERCE | Office of the Assistant Secretary for Manufacturing and Services | Special Assistant to the Deputy Assistant Secretary for Services | DC100079 | 04/07/12
| International Trade Administration | Director of Advisory Committees | DC090178 | 04/16/12
| Office of Executive Secretariat | Deputy Director, Executive Secretariat | DC110066 | 04/27/12
DEPARTMENT OF EDUCATION | Office for Civil Rights | Confidential Assistant | DB110002 | 04/07/12
| Office of the Secretary | Confidential Assistant | DB120056 | 04/07/12
DEPARTMENT OF HEALTH AND HUMAN SERVICES | Office of the Assistant Secretary for Legislation | Confidential Assistant | DH090205 | 04/07/12
DEPARTMENT OF HOMELAND SECURITY | Assistant Secretary for Health Affairs and Chief Medical Officer | Chief of Staff | DM090489 | 04/07/12
| Office of the Assistant Secretary for Public Affairs | Press Assistant | DM110026 | 04/07/12
| Office of the Assistant Secretary for Public Affairs | Public Affairs Specialist and Strategic Communication Coordinator | DM120064 | 04/14/12
DEPARTMENT OF HOUSING AND URBAN DEVELOPMENT | Office of Congressional and Intergovernmental Relations | Deputy Assistant Secretary for Intergovernmental Relations | DU100049 | 04/07/12
| Office of the Secretary | Special Assistant | DU120022 | 04/21/12
DEPARTMENT OF JUSTICE | Office of the Legal Counsel | Senior Counsel | DJ110065 | 04/14/12
DEPARTMENT OF LABOR | Office of the Deputy Secretary | Special Assistant | DL090115 | 04/13/12
DEPARTMENT OF STATE | Bureau of Public Affairs | Special Assistant | DS100084 | 04/07/12
DEPARTMENT OF THE INTERIOR | Secretary's Immediate Office | Communications Advisor | DI110094 | 04/06/12
| Office of the Deputy Secretary | Counselor to the Deputy Secretary | DI100071 | 04/07/12
| Office of the Deputy Secretary | Special Assistant to the Deputy Secretary | DI090137 | 04/21/12
| Secretary's Immediate Office | Deputy Director Office of Communications | DI100069 | 04/21/12
ENVIRONMENTAL PROTECTION AGENCY | Office of the Associate Administrator for External Affairs and Environmental Education | Press Secretary | EP110047 | 04/28/12
NATIONAL AERONAUTICS AND SPACE ADMINISTRATION | Office of the Administrator | Special Advisor | NN110021 | 04/07/12
OFFICE OF NATIONAL DRUG CONTROL POLICY | Office of the Director | Senior Policy Advisor | QQ090012 | 04/07/12
OFFICE OF THE SECRETARY OF DEFENSE | Washington Headquarters Services | Defense Fellow | DD090277 | 04/07/12
| Office of the Assistant Secretary of Defense (Special Operations/Low Intensity Conflict and Interdependent Capabilities) | Special Assistant to the Deputy Assistant Secretary of Defense (Special Operations and Combating Terrorism) | DD090248 | 04/20/12

Authority: 5 U.S.C. 3301 and 3302; E.O. 10577, 3 CFR 1954-1958 Comp., p. 218.

U.S. Office of Personnel Management.
John Berry,
Director.

[FR Doc. 2012-17751 Filed 7-19-12; 8:45 am]

BILLING CODE 6325-39-P